COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities, and deletes services previously provided by such agencies.

DATES: Comments Must Be Received on or Before: 5/1/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for provision by the nonprofit agencies listed:

Services:

Service Type: Janitorial Service

Service Mandatory for: Library of Congress, Fort Meade Collection Storage Modules, Fort Meade, MD

Mandatory Source(s) of Supply: Goodwill Industries of the Chesapeake, Inc., Baltimore, MD

Contracting Activity: Library of Congress, Fedlink Contracts, Washington, DC

Service Type: Custodial Service

Service Mandatory for: National Park Service NE Region, Tri-Site Maintenance Facility, Olmsted, Kennedy & Longfellow/Washington National Historical Park, Boston, MA

Mandatory Source(s) of Supply: Community Workshops, Inc., Boston, MA

Contracting Activity: Dept. of the Interior, National Park Service, NER NE MABO, Boston, MA

Deletions

The following services are proposed for deletion from the Procurement List:

Services:

Service Type(s): Recycling Service, Pest Control Service, Furnishings Management Service

Service Mandatory for: Offutt Air Force Base, Offutt, NE

Mandatory Source(s) of Supply: Goodwill Specialty Services, Inc., Omaha, NE

Contracting Activity: Dept of the Air Force, FA7014 AFDW PK, Andrews AFB, MD

Service Type: Janitorial/Custodial Service

Service Mandatory for: Fairchild Air Force Base: Base and Survival School Buildings 2249C, 1224, 1302, 1306, 1336, 1344, 1348, 2248D, 2301, 2451A, 1212, 1228, 1324, 1334, 1342 and 1207 OSI Building 5025 and the Social Actions Building 3509, Fairchild AFB, WA

Mandatory Source(s) of Supply: Skils'kin, Spokane, WA

Contracting Activity: Dept. of the Air Force, FA7014 AFDW PK, Andrews AFB, MD

Barry S. Lineback,
Director, Business Operations.

[FR Doc. 2016-07429 Filed 3-31-16; 8:45 am]

BILLING CODE 6353-01-P